DEPARTMENT OF TRANSPORTATION

Federal Aviation Administration

14 CFR Part 39

[Docket No. FAA-2010-0172; Directorate Identifier 2009-NM-189-AD; Amendment 39-16308; AD 2010-11-03]

RIN 2120-AA64

Airworthiness Directives; Airbus Model A300 Series Airplanes; Model A300 B4-600, B4-600R, F4-600R Series Airplanes, and Model A300 C4-605R Variant F Airplanes (Collectively Called A300-600 Series Airplanes); and A310 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

In the past, some operators have reported difficulties to pressurise the hydraulic reservoirs, due to leakage of the Crissair reservoir air pressurisation check valves. * * * The leakage of the check valves was caused by an incorrect spring material. The affected Crissair check valves * * * were then replaced with improved check valves P/N [part number] 2S2794-1 * * *.

More recently, similar issues were again reported on aeroplanes with Crissair check valves P/N 2S2794-1 installed. The investigations * * * have shown that a spring, mounted inside the valve, does not meet the Airbus type design specifications.

This situation, if not corrected, can cause hydraulic system functional degradation, possibly resulting in reduced control of the aeroplane when combined with an air duct leak, air conditioning system contamination or, if installed, malfunction of the fire extinguishing system in the Class `C' cargo compartment.

* * * * *

We are issuing this AD to require actions to correct the unsafe condition on these products.

DATES: This AD becomes effective June 25, 2010.

The Director of the Federal Register approved the incorporation by reference of certain publications listed in this AD as of June 25, 2010.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Discussion

We issued a notice of proposed rulemaking (NPRM) to amend 14 CFR part 39 to include an AD that would apply to the specified products. That NPRM was published in the Federal Register on February 25, 2010 (75 FR 8551). That NPRM proposed to correct an unsafe condition for the specified products. The MCAI states:

In the past, some operators have reported difficulties to pressurise the hydraulic reservoirs, due to leakage of the Crissair reservoir air pressurisation check valves. In some cases, the air conditioning system was contaminated with hydraulic mist. The leakage of the check valves was caused by an incorrect spring material. The affected Crissair check valves Part Number (P/N) 2S2794 were then replaced with improved check valves P/N 2S2794-1 in accordance with Airbus Service Information Letter 29-020.

More recently, similar issues were again reported on aeroplanes with Crissair check valves P/N 2S2794-1 installed. The investigations carried out on those check valves have shown that a spring, mounted inside the valve, does not meet the Airbus type design specifications.

This situation, if not corrected, can cause hydraulic system functional degradation, possibly resulting in reduced control of the aeroplane when combined with an air duct leak, air conditioning system contamination or, if installed, malfunction of the fire extinguishing system in the Class `C' cargo compartment.

For the reasons described above, EASA [European Aviation Safety Agency] AD 2008-0166 was issued to require the inspection of the Crissair check valves P/N 2S2794-1, to identify serial numbers (s/n) and the replacement of the affected ones with serviceable units.

Later on, further investigation by the vendor Crissair revealed more suspect check valves P/N 2S2794-1. Based on this, it was concluded that EASA AD 2008-0166 did not adequately address the unsafe condition and also did not correctly identify the Functional Item Numbers (FIN) of the various aeroplane installations of the affected valves. Consequently, EASA AD Cancellation Notice No.: 2008-0166-CN was issued on 29 October 2008 to cancel EASA AD 2008-0166.

An updated list of suspect check valves with P/N 2S2794-1 has now been issued by Crissair Inc., the manufacturer. Consequently, this EASA AD requires the identification of the check valves by s/n and the replacement of the affected ones with serviceable units.

You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 206 products of U.S. registry. We also estimate that it will take about 12 work-hours per product to comply with the basic requirements of this AD. The average labor rate is $85 per work-hour. Based on these figures, we estimate the cost of this AD to the U.S. operators to be $210,120, or $1,020 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-11-03 Airbus: Amendment 39-16308. Docket No. FAA-2010-0172; Directorate Identifier 2009-NM-189-AD.

Effective Date

(a) This airworthiness directive (AD) becomes effective June 25, 2010.

Affected ADs

(b) None.

Applicability

(c) This AD applies to Airbus Model A300 B2-1A, B2-1C, B2K-3C, B2-203, B4-2C, B4-103, B4-203, B4-601, B4-603, B4-620, B4-622, B4-605R, B4-622R, F4-605R, F4-622R, and C4-605R Variant F airplanes; and Model A310-203, -204, -221, -222, -304, -322, -324, and -325 airplanes; certificated in any category, all certified models and all serial numbers on which any Crissair check valve part number 2S2794-1 is installed.

Subject

(d) Air Transport Association (ATA) of America Code 29: Hydraulic Power; and 26: Fire Protection.

Reason

(e) The mandatory continuing airworthiness information (MCAI) states:

In the past, some operators have reported difficulties to pressurise the hydraulic reservoirs, due to leakage of the Crissair reservoir air pressurization check valves. In some cases, the air conditioning system was contaminated with hydraulic mist. The leakage of the check valves was caused by an incorrect spring material. The affected Crissair check valves Part Number (P/N) 2S2794 were then replaced with improved check valves P/N 2S2794-1 in accordance with Airbus Service Information Letter 29-020.

More recently, similar issues were again reported on aeroplanes with Crissair check valves P/N 2S2794-1 installed. The investigations carried out on those check valves have shown that a spring, mounted inside the valve, does not meet the Airbus type design specifications.

This situation, if not corrected, can cause hydraulic system functional degradation, possibly resulting in reduced control of the aeroplane when combined with an air duct leak, air conditioning system contamination or, if installed, malfunction of the fire extinguishing system in the Class `C' cargo compartment.

For the reasons described above, EASA [European Aviation Safety Agency] AD 2008-0166 was issued to require the inspection of the Crissair check valves P/N 2S2794-1, to identify serial numbers (s/n) and the replacement of the affected ones with serviceable units.

Later on, further investigation by the vendor Crissair revealed more suspect check valves P/N 2S2794-1. Based on this, it was concluded that EASA AD 2008-0166 did not adequately address the unsafe condition and also did not correctly identify the Functional Item Numbers (FIN) of the various aeroplane installations of the affected valves. Consequently, EASA AD Cancellation Notice No.: 2008-0166-CN was issued on 29 October 2008 to cancel EASA AD 2008-0166.

An updated list of suspect check valves with P/N 2S2794-1 has now been issued by Crissair Inc., the manufacturer. Consequently, this EASA AD requires the identification of the check valves by s/n and the replacement of the affected ones with serviceable units.

Actions and Compliance

(f) Unless already done, do the following actions.

(1) At the applicable compliance time specified in Table 1 of this AD: For Crissair check valves, P/N 2S2794-1, identify the serial number using Appendix 1 of the applicable service bulletin identified in Table 2 of this AD, in accordance with the Accomplishment Instructions of the applicable service bulletin identified in Table 2 of this AD. Except as provided by paragraph (f)(2) of this AD, for any valve having a serial number listed in Appendix 1 of the applicable service bulletin identified in Table 2 of this AD, before further flight, install a new or modified check valve in accordance with the applicable service bulletin identified in Table 2 of this AD.

Table 1—Affected Check Valve Installation
Affected check valve installation, identified by FIN (Functional Item Number) | Compliance time
(i) Airplanes having Hydraulic System with FIN 29/1388, FIN 29/2388 and FIN 29/3388 | Within 4 months after the effective date of this AD.
(ii) Cargo Compartment Fire Extinguishing System, equipped with Flow Metering System (A310 and A300-600 airplanes having “post-Airbus modification 06403” only) FIN 26/0203 | Within 4 months after the effective date of this AD.
(iii) Airplanes having Hydraulic System with FIN 29/1378, FIN 29/1382 and FIN 29/1394 | Within 30 months after the effective date of this AD.
(iv) Hydraulic System (A300 airplanes having configuration 01 “pre-Airbus modification 03079” only) FIN 29/1381 | Within 30 months after the effective date of this AD.

(2) Check valves P/N 2S2794-1 marked with an “R” have already been modified in accordance with Crissair Service Bulletin 20070407-29-1 and do not need to be replaced. Check valves with P/N 2S2794 are not affected and do not need to be replaced.

(3) As of the effective date of this AD, no person may install any Crissair check valve, P/N 2S2794-1, on any airplane unless it has a serial number other than those listed in Appendix 1 of the applicable service bulletin identified in Table 2 of this AD, or unless check valve P/N 2S2794-1 is marked with an “R.”

Table 2—Service Information
For Airbus Model— | Use Airbus Mandatory Service Bulletin— | Revision— | Dated—
A300 airplanes | A300-29-0124, including Appendices 1, 2, and 3 | 02 | March 10, 2009.
A300-600 airplanes | A300-29-6060, including Appendices 1, 2, and 3 | 01 | March 10, 2009.
A310 airplanes | A310-29-2097, including Appendices 1, 2, and 3 | 01 | March 19, 2009.

(4) Submit an inspection report of the inspection required by paragraph (f)(1) of this AD to Airbus Customer Services Directorate, 1 Rond Point Maurice Bellonte, 31707 Blagnac Cedex, France; telephone +33 5 61 93 33 33; fax +33 5 61 93 42 51; e-mail: sb.reporting@airbus.com; at the applicable time specified in paragraph (f)(4)(i) or (f)(4)(ii) of this AD. The report must include the information specified on the inspection report sheet provided in the applicable service bulletin identified in Table 2 of this AD.

(i) If the inspection was done on or after the effective date of this AD: Submit the report within 30 days after the inspection.

(ii) If the inspection was done before the effective date of this AD: Submit the report within 30 days after the effective date of this AD.

FAA AD Differences

Note 1: This AD differs from the MCAI and/or service information as follows: Although the MCAI states not to install the part identified in paragraph (f)(3) of this AD after accomplishing the actions specified in paragraph (f)(1) of this AD, this AD prohibits installation of the part as of the effective date of this AD.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Dan Rodina, Aerospace Engineer, International Branch, ANM-116, Transport Airplane Directorate, FAA, 1601 Lind Avenue, SW., Renton, Washington 98057-3356; telephone (425) 227-2125; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the Information collection requirements and has assigned OMB Control Number 2120-0056.

Related Information

(h) Refer to MCAI EASA Airworthiness Directive 2009-0171, dated August 5, 2009; and the service bulletins identified in Table 2 of this AD; for related information.

Material Incorporated by Reference

(i) You must use the service information contained in Table 3 of this AD to do the actions required by this AD, unless the AD specifies otherwise.

(1) The Director of the Federal Register approved the incorporation by reference of this service information under 5 U.S.C. 552(a) and 1 CFR part 51.

(2) For service information identified in this AD, contact Airbus SAS-EAW (Airworthiness Office), 1 Rond Point Maurice Bellonte, 31707 Blagnac Cedex, France; telephone +33 5 61 93 36 96; fax +33 5 61 93 44 51; e-mail: account.airworth-eas@airbus.com; Internet http://www.airbus.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Table 3—Material Incorporated by Reference
Document | Revision | Date
Airbus Mandatory Service Bulletin A300-29-0124, including Appendices 1, 2, and 3 | 02 | March 10, 2009.
Airbus Mandatory Service Bulletin A300-29-6060, including Appendices 1, 2, and 3 | 01 | March 10, 2009.
Airbus Mandatory Service Bulletin A310-29-2097, including Appendices 1, 2, and 3 | 01 | March 19, 2009.

Issued in Renton, Washington, on May 11, 2010.
Ali Bahrami,
Manager, Transport Airplane Directorate, Aircraft Certification Service.

[FR Doc. 2010-11757 Filed 5-20-10; 8:45 am]

BILLING CODE 4910-13-P